DEPARTMENT OF COMMERCE

Foreign-Trade Zones Board

[B-60-2016]

Foreign-Trade Zone (FTZ) 7—Mayaguez, Puerto Rico Authorization of Production Activity MSD International GMBH (Puerto Rico Branch) LLC Subzone 7G (Pharmaceuticals) Las Piedras, Puerto Rico

On August 29, 2016, MSD International GMBH (Puerto Rico Branch) LLC (MSD), operator of Subzone 7G, submitted a notification of proposed production activity to the Foreign-Trade Zones (FTZ) Board for its facility within Subzone 7G, in Las Piedras, Puerto Rico.

The notification was processed in accordance with the regulations of the FTZ Board (15 CFR part 400), including notice in the Federal Register inviting public comment (81 FR 64131, September 19, 2016). The FTZ Board has determined that no further review of the activity is warranted at this time. The production activity described in the notification is authorized, subject to the FTZ Act and the Board's regulations, including Section 400.14.

Dated: December 27, 2016.
Diane Finver,
Acting Executive Secretary.

[FR Doc. 2016-32035 Filed 1-4-17; 8:45 am]

BILLING CODE 3510-DS-P